DEPARTMENT OF ENERGY

Federal Energy Regulatory Commission

[Docket No. RP05-43-000]

Dominion Cove Point LNG LP; Notice of Technical Conference

January 13, 2005.

Take notice that the Commission will convene a technical conference on Thursday, February 3, 2005, at 1 p.m. (e.s.t.), in a room to be designated at the offices of the Federal Energy Regulatory Commission, 888 First Street, NE., Washington DC 20426.

The purpose of the conference will be to discuss Cove Point's proposed tariff changes related to the rights of a current holder of capacity at the LNG terminal, and the rights of others, when the contract for the capacity is scheduled to terminate. The Commission directed its staff to convene this technical conference in a December 23, 2004 Order in this proceeding.¹

¹ Dominion Cove Point LNG LP, 109 FERC ¶ 61,363 (2004).

FERC conferences are accessible under section 508 of the Rehabilitation Act of 1973. For accessibility accommodations please send an e-mail to accessibility@ferc.gov or call toll free (866) 208-3372 (voice) or (202) 208-1659 (TTY), or send a FAX to (202) 208-2106 with the required accommodations.

All interested persons are permitted to attend. For further information please contact Jacob Silverman at (202) 502-8445 or e-mail jacob.silverman@ferc.gov.

Magalie R. Salas,
Secretary.

[FR Doc. E5-284 Filed 1-25-05; 8:45 am]

BILLING CODE 6717-01-P